DEPARTMENT OF COMMERCE

National Oceanic and Atmospheric Administration

[RTID 0648-XA475]

Takes of Marine Mammals Incidental to Specified Activities; Taking Marine Mammals Incidental to Construction of the Alaska LNG Project in Prudhoe Bay, Alaska

AGENCY: National Marine Fisheries Service (NMFS), National Oceanic and Atmospheric Administration (NOAA), Commerce.

ACTION: Notice; reopening of public comment period.

SUMMARY: The National Marine Fisheries Service (NMFS) is reopening the public comment period on the notice of a proposed incidental harassment authorization (IHA) under the Marine Mammal Protection Act (MMPA) to authorize the taking of marine mammals, by Level A harassment and Level B harassment, incidental to construction of the Alaska LNG Project in Prudhoe Bay, Alaska. The comment period for the notice of proposed IHA that published on July 16, 2020 closed on August 17, 2020. NMFS is reopening the public comment period to provide the public with additional time to submit information and to comment on this proposed IHA.

DATES: Comments and information must be received no later than November 16, 2020. Comments received between the close of the first comment period on August 17, 2020 and the reopening of the comment period on September 16, 2020 will be considered timely received.

ADDRESSES: Comments should be addressed to Jolie Harrison, Chief, Permits and Conservation Division, Office of Protected Resources, National Marine Fisheries Service. Written comments should be sent to ITP.Davis@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/action/incidental-take-authorization-alaska-gasline-development-corporation-liquefied-natural-gas-0 without change. All personal identifying information (e.g., name, address) voluntarily submitted by the commenter may be publicly accessible. Do not submit confidential business information or otherwise sensitive or protected information.

FOR FURTHER INFORMATION CONTACT: Leah Davis, Office of Protected Resources, NMFS, (301) 427-8401.

SUPPLEMENTARY INFORMATION:

Background

On July 16, 2020, we published a notice of proposed incidental harassment authorization to authorize the taking of marine mammals incidental to construction of the Alaska LNG Project in Prudhoe Bay, Alaska (85 FR 43382). The proposed IHA allowed for a 30-day public comment period, which ended on August 17, 2020. On August 14, 2020, we received a request from the Alaska Eskimo Whaling Commission (AEWC) requesting a 60-day extension of the comment period. The request indicated that the AEWC required more time to conduct their review and provide comments.

The AEWC reiterates that (1) the Whaling Captains, community members, and the thousands of Alaska Natives who depend on the success of their harvests for their food security will be directly affected by any adverse effects from this project, and that (2) they have a direct stake in ensuring that this project is properly and thoroughly reviewed. Specifically, they note that in addition to other challenges to reviewing the proposed IHA within the 30 days initially provided, the summer months are a time when many community members engage in a wide range of subsistence activities. Given this, and the fact that the specified activity the IHA addresses is not scheduled to start until 2022, NMFS has elected to provide additional time for public comment.

Due to the timing of the request, it was not feasible to publish a notice in the Federal Register announcing a comment period extension prior to the close of the initial public comment period. Therefore, we are reopening the public comment period from September 16, 2020 until November 16, 2020 to receive additional information and comments that may be relevant to any aspect of the proposal. Comments and information submitted during the prior comment period will be fully considered in the preparation of the final IHA and need not be resubmitted.

Dated: September 11, 2020.
Donna S. Wieting,
Director, Office of Protected Resources, National Marine Fisheries Service.

[FR Doc. 2020-20401 Filed 9-15-20; 8:45 am]

BILLING CODE 3510-22-P